OFFICE OF MANAGEMENT AND BUDGET

Office of Federal Financial Management Policy Directive on Financial Assistance Program Announcements

AGENCY: Office of Management and Budget.

ACTION: Notice of proposed policy issuance directive.

SUMMARY: The Office of Federal Financial Management (OFFM) proposes to establish a standard format for Federal agency announcements of funding opportunities under programs that award discretionary grants or cooperative agreements. The purpose of the standard format is to have information organized in a consistent way in program announcements for the hundreds of Federal programs that make financial assistance awards to non-Federal recipients. The Federal awarding agencies jointly developed this format as one part of the implementation of the Federal Financial Assistance Management Improvement Act of 1999 (Pub. L. 106-107). Consistent with the streamlining and simplification purposes of that public law, a standard format will make it easier for potential applicants to quickly find the information they need.

DATES: All comments on this proposal should be in writing, and must be received by October 11, 2002.

ADDRESSES: Due to potential delays in OMB's receipt and processing of mail sent through the U. S. Postal Service, we encourage respondents to submit comments electronically to ensure timely receipt. We cannot guarantee that comments mailed will be received before the comment closing date.

Electronic mail comments may be submitted to: ephillip@omb.eop.gov. Please include “Grant Announcement Format Comments” in the subject line and the full body of your comments in the text of the electronic message and as an attachment. Please include your name, title, organization, postal address, telephone number, and e-mail address in the text of the message. Comments may also be submitted via facsimile to 202-395-3952.

Comments may be mailed to Elizabeth Phillips, Office of Federal Financial Management, Office of Management and Budget, Room 6025, New Executive Office Building, Washington, DC 20503.

FOR FURTHER INFORMATION CONTACT: Elizabeth Phillips, Office of Federal Financial Management, Office of Management and Budget, telephone 202-395-3053 (direct) or 202-395-3993 (main office) and e-mail: ephillip@omb.eop.gov.

SUPPLEMENTARY INFORMATION: This notice proposes to establish, by way of a policy directive, a standard format for organizing the information that Federal agencies include in their announcements of funding opportunities under programs that use discretionary grants or cooperative agreements. This policy directive will implement an outcome of the Federal agencies' streamlining and simplification efforts, under Public Law 106-107. There may be subsequent OFFM policy directives to implement other outcomes of those efforts where revision of OMB circulars, or issuance of a rule or Executive Order is not warranted.

This action addresses a need that non-Federal entities identified during the public consultation process mandated by Public Law 106-107. Commenters suggested that if all agencies' program announcements were to present information in the same order, a potential applicant could more easily and quickly find the key pieces of information it needed at each point in the process (e.g., to decide at the outset whether it was eligible and wished to apply and to later prepare and submit an application).

The proposed announcement format is an interim product in that it addresses some, but not all, of the public comments on program announcements. It responds to comments on the need for consistency in placement and ease of locating pertinent information within announcements. It also incorporates language in Sections III and V to address comments that some announcements are not sufficiently clear about the way in which applicants' cost sharing is considered in selecting applications for funding. The Federal agencies are proposing this announcement format as an interim product so that potential applicants can begin to realize the benefits of a standard format while we continue to consider other issues addressed in the public comments, including suggestions that we try to establish a uniform approach to defining what constitutes a late application. As we complete work on the issues identified in those comments, we will propose updates to the announcement format, as warranted.

The proposed announcement format described in this Notice relates to another proposal described in a subsequent notice in this section of today's Federal Register. That proposal is a set of data elements that Federal agencies would use to synopsize available funding opportunities at FedBizOpps, an Internet site maintained by the General Services Administration. The purposes of FedBizOpps synopses are to give potential applicants a single site to search for Federal funding opportunities, to provide enough information for them to decide whether they want to read the full announcement, and to provide one or more ways (e.g., an electronic link to another Internet site, an e-mail address or a telephone number) to get that announcement. The FedBizOpps information therefore complements the full announcement described in this Notice.

We welcome your input on any aspect of the proposed format. Questions that you may wish to address include:

• Is there additional information that should appear in the overview segment preceding the full text of the announcement?

• Do you feel that we need to add or delete any categories or subcategories of information in the full text of the announcement? For example, should you choose to apply, are the information elements sufficient for you to determine what you must submit, and when and how you must do so? If you suggest an additional information element, please explain why you recommend its inclusion.

• Are terms used in the format readily understandable? Are the terms generic enough to cover all programs and agencies in which you might have an interest? Do you have suggestions for alternate terms?

Dated: July 31, 2002.
Mark W. Everson,
Controller.

To the Heads of Executive Departments and Establishments

Subject: Format for Financial Assistance Program Announcements

1. Purpose. This policy directive establishes a government-wide funding opportunity announcement format for Executive Branch departments and agencies to use in programs that make discretionary awards of grants or cooperative agreements. Program announcements include all paper and electronic issuances that Federal departments and agencies use to announce funding opportunities, whether they are called “program announcements,” “notices of funding availability,” “broad agency announcements,” “research announcements,” “solicitations,” or something else.

2. Authority. This policy directive is a part of the implementation of the Federal Financial Assistance Management Improvement Act of 1999 (Pub. L. 106-107).

3. Background. The Federal Financial Assistance Management Improvement Act of 1999 required the Office of Management and Budget (OMB) to direct, coordinate, and assist Executive Branch departments and agencies in establishing an interagency process to streamline and simplify Federal financial assistance procedures for non-Federal entities. It also required each Executive agency to develop, submit to the Congress, and implement a plan for that streamlining and simplification.

Twenty-six Executive Branch agencies jointly submitted a plan to the Congress in May 2001, as the Act required. The plan described the interagency process through which the agencies would review current policies and practices and seek to streamline and simplify them. The process involved interagency work groups under the auspices of the Grants Management Committee of the Chief Financial Officers Council. The plan also identified substantive areas in which the interagency work groups had begun their review.

One of the substantive areas that the agencies identified in the plan was the form and content of program announcements. The agencies stated in the May 2001 plan that their preliminary analysis suggested a potential for developing a more consistent announcement format across the many Federal agencies and programs. A standard announcement format with information content organized in a consistent way will let applicants quickly and efficiently find the information they need, in order to decide whether a particular funding opportunity is of interest and to prepare an application. An interagency work group developed the format attached to this policy letter and recommended that the OMB's Office of Federal Financial Management (OFFM) issue it as the standard for all programs that use discretionary grants or cooperative agreements.

4. Policy. The format attached to this policy directive is the government-wide standard format for programs that make discretionary awards of grants or cooperative agreements, with the exception of programs that do not issue separate announcements apart from the program description in the Catalog of Federal Domestic Assistance (CFDA). For those excepted programs, the format will continue to conform with the guidance in OMB Circular A-89 for program information in the CFDA.

5. Responsibilities.

a. Agency Responsibilities. Executive Branch departments and agencies:

(1) Must issue any needed direction to offices that award grants or cooperative agreements under discretionary programs, in order to establish the attached format as the standard for those programs' announcements. All announcements must include information elements that are marked “required” in the format. An announcement for a given program may use elements that are marked “optional,” as appropriate for the program. Whether or not the announcement includes any “optional” elements, the information that is included must be organized to conform with the standard format.

(2) Are to request exceptions from this OFFM policy directive for any program announcement(s) with information organized in a way that deviates from the standard format.

b. OMB Responsibilities. The OMB:

(1) Will update this policy directive as needed, based on recommendations from interagency work groups such as those sponsored by the Chief Financial Officers Council.

(2) Must respond within 30 days to an agency's request for an exception from this policy letter, either with a final decision or an estimate of the time needed to render that decision.

6. Information Contact. Direct any questions regarding this policy directive to Elizabeth Phillips, OFFM, 202-395-3053 (direct) or 202-395-3993 (main office).

7. Effective Date. The policy directive is effective 30 days after issuance. All implementing actions other than regulatory revisions must be completed by the Executive departments and agencies within 6 months of the effective date; regulatory revisions must be completed within 12 months.

Mark W. Everson,

Controller.

Attachment

Announcement of Federal Funding Opportunity

This document is a uniform format for Federal agencies' announcements of funding opportunities under which discretionary awards of grants or cooperative agreements may be made. The format has two parts, the first for overview information and the second for the full text of the announcement.

Overview Information

The agency must display prominently the following information (not necessarily in the same sequential order) in a location preceding the full text of the announcement:

• Agency Name(s)—Required. Include the name of your department or agency, the specific office(s) within the agency (e.g., bureau, directorate, division, or institute) that are involved in the funding opportunity, and the mailing address with zip code.

• Program Name—Optional. If your agency has a program name that is different from the Funding Opportunity Title, you could include it here.

• Funding Opportunity Title—Required.

• Funding Opportunity Number—Optional. Your agency may wish to assign identifying numbers to announcements.

• Catalog of Federal Domestic Assistance (CFDA) Number(s)—Required.

• CFDA Title(s)—Optional. This is the program name listed in the CFDA for each CFDA number given above.

• Dates—Required. Include key dates that potential applicants need to know. Key dates include due dates for applications or Executive Order 12372, “Intergovernmental Review of Federal Programs” (July 14, 1982), submissions, as well as any letters of intent or pre-applications. For any announcement issued before a program's application materials are available, key dates also include the date on which those materials will be released.

The program office must present the overview information described above and may present other information it wishes. It can do so in any of the following ways:

• Executive Summary. An agency may wish to include an executive summary of the announcement before the full text. For announcements that are long (25 pages or more in length) or complex, agencies should consider including executive summaries with the overview information described above and additional key information (e.g., who is eligible to apply and where one can get application materials), so that potential applicants can more quickly and easily find what they need. An executive summary should be short, preferably one page, with information in concise bullets to give an overview of the funding opportunity.

• Cover and/or Inside Cover. If the agency does not wish to include an executive summary, an alternative is to provide the overview information on the cover and/or inside cover of the announcement (or the first screen a potential applicant would see, in the case of an electronic announcement).

• Federal Register Format. For an announcement that appears as a notice in the Federal Register, some of the required overview information will appear with other information near the beginning of the notice, due to the Federal Register's standard format for notices. Remaining overview information may be included in the Summary section of the Federal Register notice or immediately preceding the full text of the announcement in the Supplementary Information section.

Full Text of Announcement

The full text of the announcement is organized in sections. The format indicates immediately following the title of each section whether that section is required in every announcement or is an agency option.

The format is designed so that similar types of information will appear in the same sections in announcements of different Federal funding opportunities. Toward that end, there is text in each of the format's sections to describe the types of information that an agency would include in that section of an actual announcement.

An agency that wishes to include information on a subject that the format does not specifically discuss may address that subject in whatever section(s) is most appropriate. For example, if an announcement chooses to address performance goals in the announcement, it might do so in the funding opportunity description, the application content, and/or the reporting requirements.

Similarly, when this format calls for a type of information to be in one particular section, an agency wishing to address that subject in other sections may elect to repeat the information in those sections or use cross references between the sections. For example, an agency may want to include in Section I information about the types of recipients who are eligible to apply. The format specifies a standard location for that information in Section III.1 but that does not preclude repeating the information in Section I or creating a cross reference between Sections I and III.1, as long as a potential applicant can find the information quickly and easily from the standard location.

The sections of the full text of the announcement are described in the following paragraphs.

I. Funding Opportunity Description—Required

This section contains the full programmatic description of the funding opportunity. It may be as long as needed to adequately communicate to potential applicants the areas in which funding may be provided. It describes the agency's funding priorities or the technical or focus areas in which the agency intends to provide assistance. As appropriate, it may include any program history (e.g., whether this is a new program or a new or changed area of program emphasis). This section may communicate indicators of successful projects (e.g., if the program encourages collaborative efforts) and may include examples of projects that have been funded previously. This section also may include other information the agency deems necessary, such as citations for authorizing statutes and regulations for the funding opportunity.

II. Award Information—Required

Provide sufficient information to help an applicant make an informed decision about whether or not to submit a proposal. Relevant information could include the total amount of funding that your agency expects to award through the announcement; the anticipated number of awards; the expected amounts of individual awards (which may be a range); the amount of funding per award, on average, experienced in previous years; and the anticipated start dates and periods of performance for new awards. This section also should address whether applications for renewal or supplementation of existing projects are eligible to compete with applications for new awards.

This section also must indicate the type(s) of assistance instrument (i.e., grant, cooperative agreement, and/or other instrument) that may be awarded if applications are successful. If cooperative agreements may be awarded, this section either should describe the “substantial involvement” that the agency expects to have or should reference where the potential applicant can find that information (e.g., in the funding opportunity description in Section I or award administration information in Section VI). If procurement contracts also may be awarded, you must say so.

III. Eligibility Information

This section addresses considerations or factors that make an applicant or application eligible or ineligible for consideration. This includes the eligibility of particular types of applicant organizations, any factors affecting the eligibility of the principal investigator or project director, and any criteria that make particular projects ineligible. You should make clear whether an applicant's failure to meet an eligibility criterion by the time of an application deadline will result in your agency's returning the application without review or, even though an application may be reviewed, will preclude the agency from making an award. Key elements to be addressed are:

1. Eligible Applicants—Required. You must clearly identify the types of entities that are eligible to apply. If there are no restrictions on eligibility, this section may simply indicate that all potential applicants are eligible. If there are restrictions on eligibility, it is important to be clear about the specific types of entities that are eligible, not just the types that are ineligible. For example, if your program is limited to non-profit organizations subject to Section 501(c)(3) of the tax code, your announcement should say so. Similarly, it is better to state explicitly that Native American tribal organizations are eligible than to assume that they can unambiguously infer that from a statement that non-profit organizations may apply. Eligibility also can be expressed by exception, (e.g., open to all types of domestic applicants other than individuals). This section should refer to any portion of Section IV specifying documentation that must be submitted to support an eligibility determination (e.g., proof of 501(c)(3) status as determined by the Internal Revenue Service or an authorizing tribal resolution).

2. Cost Sharing—Required. You must state whether there is required cost sharing, matching, or cost participation without which an application would be ineligible (if cost sharing is not required, you must explicitly say so). Required cost sharing may be a certain percentage or amount, or may be in the form of contributions of specified items or activities (e.g., provision of equipment). Cost sharing as an eligibility criterion includes requirements based in statute or regulation, as well as those imposed by administrative decision of the agency. This section should refer to the appropriate portion(s) of Section IV stating any pre-award requirements for submission of letters or other documentation to verify commitments to meet cost-sharing requirements if an award is made.

3. Other—Required, if applicable. If there are other eligibility criteria (i.e., criteria that have the effect of making an application or project ineligible for award, whether you refer to them as “responsiveness” criteria, “go-no go” criteria, “threshold” criteria, or in other ways), you must clearly state them. For example, if entities that have been found to be in violation of a particular Federal statute are ineligible, it is important to say so. In this section you also may indicate whether there is any limit to the number of applications an applicant may submit under the announcement. You also should use this section to address any eligibility criteria for beneficiaries or for program participants other than award recipients.

IV. Application and Submission Information

1. Address to Request Application Package—Required. You must tell potential applicants how to get application forms, kits, or other materials they need to apply (if this announcement contains everything they need, this section need only say so). You may give an Internet address where they can access the materials.* Since high-speed Internet access is not yet universally available for downloading documents, there also should be a way for potential applicants to request paper copies of materials, such as a U.S. Postal Service mailing address, telephone or fax number, Telephone Device for the Deaf (TDD) number, and/or Federal Information Relay Service (FIRS) number.

2. Content and Form of Application Submission—Required. This section should identify the required content of an application and the forms or formats that an applicant must use to submit it. This section also should address any preliminary submissions that the agency requires or encourages, either to facilitate its own planning or to provide potential applicants with feedback to help them decide whether to submit a full proposal.

For a full application, this includes all content and forms or formats that constitute a complete application, including: general information (e.g., applicant name and address), budgetary information, narrative programmatic information, biographical sketches, and all other required information (e.g., documentation that an applicant meets stated eligibility criteria or certifications or assurances of compliance with applicable requirements). If any requirements are stated elsewhere because they are general requirements that apply to multiple programs or funding opportunities, this section may refer to where those requirements may be found. You must either include required forms or formats as part of this announcement or state where the applicant may obtain them.

In this section, you should specifically address content and form or format requirements for:

• Pre-applications, letters of intent, or white papers that your agency requires or encourages (see Section IV.3), including any limitations on the number of pages or other formatting requirements similar to those for full applications.

• The application as a whole. For hard copy submissions, that could include any limitations on the number of pages, font size and typeface, margins, paper size, number of copies, and sequence or assembly requirements. If electronic submission is permitted or required,* that could include special requirements for formatting or signatures.

• Component pieces of the application (e.g., if all copies of the application must bear original signatures on the face page or the program narrative may not exceed 10 pages). This includes any pieces that may be submitted separately by third parties (e.g., references or letters confirming commitments from third parties that will be contributing a portion of any required cost sharing).

• Information that successful applicants must submit after your agency notifies them of its intent to make awards, but prior to award. This could include evidence of compliance with human subjects requirements or information your agency needs to comply with the National Environmental Policy Act (NEPA).

3. Submission Dates and Times—Required. Your announcement must identify due dates and times for all submissions. This includes not only the full applications but also any preliminary submissions (e.g., letters of intent, white papers, or pre-applications). It also includes any other submissions of information before award that are separate from the full application. If the funding opportunity is a general announcement that is open for a period of time with no specific due dates for applications, this section should say so. Note that the information on dates that is included in this section also must appear with other overview information in a location preceding the full text of the announcement (see “Overview Information” segment of this format).

For each type of submission that you address, this section should indicate whether the submission is encouraged or required and, if required, any deadline date for submission (or dates, if the agency plans more than one cycle of application submission, review, and award under the announcement). The announcement should state (or provide a reference to another document that states):

• Any deadline in terms of a date and local time.

• What the deadline means (e.g., whether it is the date and time by which the agency must receive the application, the date by which the application must be postmarked, or something else) and how that depends, if at all, on the submission method (e.g., mail, electronic, or personal/courier delivery).

• The effect of missing a deadline (e.g., whether late applications are neither reviewed nor considered or are reviewed and considered under some circumstances).

• How the receiving Federal office determines whether an application or pre-application has been submitted before the deadline. This includes the form of acceptable proof of mailing or system-generated documentation of receipt date and time.

This section also may indicate whether, when, and in what form the applicant will receive an acknowledgment of receipt.

You should consider displaying the above information in ways that will be easy to understand and use. It can be difficult to extract all needed information from narrative paragraphs, even when they are well written. A tabular form for providing a summary of the information may help applicants for some programs and give them what effectively could be a checklist to verify the completeness of their application package before submission. For example, a summary table might look like:

What to submit | Required content | Required form or format | When to submit it
Preapplication (optional, but encouraged) | Described in Section IV.2 of this announcement | Format described in section __ of grants policy manual at (give URL or where to obtain the manual)* | By (give pre-application due date).
Application:
Cover sheet | (Per required form) | Form SF-__, available from (give source).
Budget information | (Per required form) | Form SF-__, available from (give source).
Narrative | Described in Section IV.2 of this announcement | Format described in Section IV.2 of this announcement.
Assurances | (Per required form) | Form SF-__, available from (give source).
Letters from third parties contributing to cost sharing | Third parties' affirmations of amounts of their commitments | No specific form or format.
Statement of intent to comply with human subjects requirement | (Per required form) | Form SF-__, available from (give source) | Prior to award, when requested by grants officer (if application is successful).
* With respect to electronic methods for providing information about funding opportunities or accepting applicants' submissions of information, each agency is responsible for compliance with Section 508 of the Rehabilitation Act of 1973, as amended by the Workforce Investment Act of 1998.

4. Intergovernmental Review—Required, if applicable. If the funding opportunity is subject to Executive Order (EO) 12372, “Intergovernmental Review of Federal Programs,” you must say so. In alerting applicants that they must contact their State's Single Point of Contact (SPOC) to find out about and comply with the State's process under EO 12372, you should inform them that the names and addresses of the SPOCs are listed in the Office of Management and Budget's home page at: http://www.whitehouse.gov/omb/grants/spoc.html to ensure the most up-to-date contact information is made available.

5. Funding Restrictions—Required. You must include information on funding restrictions in order to allow an applicant to develop an application and budget consistent with program requirements. Examples are whether construction is an allowable activity, if there are any limitations on direct costs such as foreign travel or equipment purchases, and if there are any limits on indirect costs (or facilities and administrative costs).

6. Other Submission Requirements—Required. This section must address any other submission requirements not included in the other paragraphs of this section. This might include the form of submission, i.e., paper or electronic, for each type of required submission. Applicants should not be required to submit in more than one format and this section should indicate whether they may choose whether to submit applications in hard copy or electronically, may submit only in hard copy, or may submit only electronically.

This section also must indicate where applications (and any pre-applications) must be submitted if sent by postal mail, electronic means, or hand-delivery. For postal mail submission, this should include the name of an office, official, individual or function (e.g., application receipt center) and a complete mailing address. For electronic submission, this should include the “url” or e-mail address; whether a password(s) is required; whether particular software or other electronic capabilities are required; what to do in the event of system problems and a point of contact that will be available in the event the applicant experiences technical difficulties.*

V. Application Review Information

1. Criteria—Required. This section must address the criteria that your agency will use to evaluate applications. This includes the merit and other review criteria that evaluators will use to judge applications, including any statutory, regulatory, or other preferences (e.g., minority status or Native American tribal preferences) that will be applied in the review process. These criteria are distinct from eligibility criteria that are addressed before an application is accepted for review and any program policy or other factors that are applied during the selection process, after the review process is completed. The intent is to give applicants visibility into the evaluation process so that they can make informed decisions when preparing their applications and so that the process is as fair and equitable as possible.

The announcement should clearly describe all criteria, including any sub-criteria. If criteria vary in importance, the announcement should specify the relative percentages, weights, or other means used to distinguish among them. For statutory, regulatory, or other preferences, the announcement should provide a detailed explanation of those preferences with an explicit indication of their effect (e.g., whether they result in additional points being assigned).

If an applicant's proposed cost sharing will be considered in the review process (as opposed to being an eligibility criterion described in Section III.2), the announcement must specifically address how it will be considered (e.g., to assign a certain number of additional points to applicants who offer cost sharing, or to break ties among applications with equivalent scores after evaluation against all other factors). If cost sharing will not be considered in the evaluation, the announcement should say so, so that there is no ambiguity for potential applicants. Vague statements that cost sharing is encouraged, without clarification as to what that means, are unhelpful to applicants.

2. Review and Selection Process—Required. This section may vary in the level of detail provided. The announcement must list any program policy or other factors or elements, other than merit criteria, that the selecting official may use in selecting applications for award (e.g., geographical dispersion, program balance, or diversity).

You also may include other details you deem appropriate. For example, this section may indicate who is responsible for evaluation against the merit criteria (e.g., peers external to the agency or Federal agency personnel) and/or who makes the final selections for award. If you have a multi-phase review process (e.g., an external panel advising internal agency personnel who make final recommendations to the deciding official), you may describe the phases. You also may include: The number of people on an evaluation panel and how it operates, the way reviewers are selected, reviewer qualifications, and the way that conflicts of interest are avoided. In addition, if you permit applicants to nominate suggested reviewers of their applications or suggest those they feel may be inappropriate due to a conflict of interest, that information should be included in this section.

3. Anticipated Announcement and Award Dates—Optional. This section is intended to provide applicants with information they can use for planning purposes. If there is a single application deadline followed by the simultaneous review of all applications, the agency can include in this section information about the anticipated dates for announcing successful applicants and for having awards in place. If applications are received and evaluated on a “rolling” basis at different times during an extended period, it may be appropriate to give applicants an estimate of the time needed to process an application and notify the applicant of the agency's decision.

VI. Award Administration Information

1. Award Notices—Required. This section should address what a successful applicant can expect to receive following selection. If your practice is to provide a separate notice stating that an application has been selected before you actually make the award, this section would be the place to indicate that the letter is not an authorization to begin performance (except at the recipient's own risk, to the extent that you allow charging to awards of pre-award costs). This section should indicate that the notice of award signed by the grants officer (or equivalent) is the authorizing document, and whether it is provided through postal mail or by electronic means and to whom. It also may address the timing, form, and content of notifications to unsuccessful applicants.

2. Administrative Requirements—Required. This section should address the administrative requirements your agency's awards include, so that a potential applicant may identify any requirements with which it would have difficulty complying if its application is successful. In those cases, early notification about the requirements allows the potential applicant to decide not to apply or to take needed actions before award. The announcement need not include all of the award terms and conditions, but may refer to a document (with information about how to obtain it) or Internet site* where applicants can see the terms and conditions.

If this funding opportunity will lead to awards with some special terms and conditions that differ from your agency's usual (sometimes called “general”) terms and conditions, this section should highlight those special terms and conditions. Doing so will alert applicants who have received awards from your agency previously and might not otherwise expect different terms and conditions. For the same reason, you may wish to inform potential applicants about special requirements that could apply to particular awards after review of applications and other information, based on the particular circumstances of the effort to be supported (e.g., if human subjects were to be involved).

3. Reporting—Optional. If the funding opportunity may attract first-time applicants, it is helpful to include in this section some general information about the type (e.g., financial or performance), frequency, and means of submission (paper or electronic) of post-award reporting requirements, even if the details are included in the award terms and conditions.

You also should highlight any special reporting requirements for awards under this funding opportunity that differ (e.g., by report type, frequency, form/format, or circumstances for use) from what your agency's awards usually require. This section should clearly indicate whether any special reporting requirement is in addition to or in lieu of the usual reporting requirements.

VII. Agency Contact(s)—Required

You must give potential applicants a point(s) of contact for answering questions or helping with problems while the funding opportunity is open. The intent of this requirement is to be as helpful as possible to potential applicants, so you should consider approaches such as giving:

• Points of contact who may be reached in multiple ways (e.g., by telephone, FAX, and/or e-mail, as well as regular mail).

• A fax or e-mail address that multiple people access, so that someone will respond even if others are unexpectedly absent during critical periods.

• Different contacts for distinct kinds of help (e.g., one for questions of programmatic content and a second for administrative questions).

VIII. Other Information

This section may include any additional information that will assist a potential applicant. For example, the section might:

• Indicate whether this is a new program or a one-time initiative.

• Mention related programs or other upcoming or ongoing agency funding opportunities for similar activities.

• Include Internet addresses for agency Web sites that may be useful to an applicant in understanding the program (Note: you should make certain that any Internet sites are current and accessible).*

• Alert applicants to the need to identify proprietary information and inform them about the way the agency will handle it.

• Let applicants know where the agency will post any subsequent amendments to the announcement, particularly if an alternative medium is used for that purpose.

• Include certain routine notices to applicants (e.g., that the government is not obligated to make any award as a result of the announcement or that only grants officers can bind the government to the expenditure of funds).

________

*With respect to electronic methods for providing information about funding opportunities or accepting applicants' submissions of information, each agency is responsible for compliance with Section 508 of the Rehabilitation Act of 1973, as amended by the Workforce Investment Act of 1998.

[FR Doc. 02-20260 Filed 8-9-02; 8:45 am]

BILLING CODE 3110-01-P